DEPARTMENT OF THE INTERIOR

Bureau of Land Management

National Park Service

[AZ-110-05-1610-DP-083A-241E]

Notice of Availability for the Draft Resource Management Plan and Draft Environmental Impact Statement for the Arizona Strip, the Vermilion Cliffs National Monument, and the Grand Canyon-Parashant National Monument, and a Draft General Management Plan and Draft Environmental Impact Statement for the Grand Canyon-Parashant National Monument

AGENCIES: Bureau of Land Management, Department of the Interior. National Park Service, Department of the Interior.

ACTION: Issuance of a Notice of Availability for the Draft Resource Management Plan and Draft EIS for the Arizona Strip, the Vermilion Cliffs National Monument, and the Grand Canyon-Parashant National Monument, and a Draft General Management Plan and Draft EIS for the Grand Canyon-Parashant National Monument, all located in Mohave and Coconino counties, Arizona.

SUMMARY: In accordance with the Bureau of Land Management (BLM) planning regulations, Title 43 Code of Federal Regulations (CFR) 1610.2(f)(3), the National Environmental Policy Act (NEPA) Regulations, Title 40 CFR 1502.9(a), and the National Park Service (NPS) Director's Order 2 (Park Planning), the BLM and NPS hereby gives notice that the Draft Resource Management Plan/Draft EIS for the Arizona Strip Field Office, the Vermilion Cliffs National Monument, and the BLM portion of the Grand Canyon-Parashant National Monument, and a Draft General Management Plan/Draft EIS for the NPS portion of the Grand Canyon-Parashant National Monument (Draft Plan/DEIS) is available for public review and comments. The Draft Plan/DEIS addresses management on approximately 3,322,960 acres of public land. Issues addressed in the Draft Plan/DEIS include access, wilderness, protection of resources including monument objects, livestock grazing management, and recreation management. The range of alternatives was prepared in accordance with applicable BLM and NPS planning procedures.

DATES: Written comments on the Draft Plan/DEIS will be accepted for 90 days following the date the Environmental Protection Agency (EPA) publishes its Notice of Availability in the Federal Register. Future meetings and any other public involvement activities will be announced at least 15 days in advance through local media. The BLM and NPS will present information on the Draft Plan/DEIS at a minimum of eight public, open-house meetings.

ADDRESSES: Written comments may be mailed to Planning Team, Arizona Strip District Office, Bureau of Land Management, 345 East Riverside Drive, St. George, Utah 84790. You may also comment via e-mail to Arizona_Strip@blm.gov. The Draft Plan/DEIS is posted on the Internet at http://www.az.blm.gov/LUP/strip/strip_plan.htm (subject to change) or http://www.nps.gov/para and has been mailed to those who indicated they wanted it on hard copy or on a compact disk. A limited number of copies of the Draft Plan/DEIS, in hard copy or on a compact disk, are available at the BLM Arizona Strip District Office, 345 East Riverside Drive, St. George, Utah 84790. Copies can also be viewed at the Washington County Library in St. George, Utah, the Fredonia Town Library in Fredonia, Arizona, and the Page Public Library in Page, Arizona. Public comments, including names and street addresses of respondents, will be available for public review at the Grand Canyon-Parashant National Monument Office, 91 West 1470 South, St. George, Utah, during regular business hours, 8 a.m. to 5 p.m., Monday through Friday, except holidays. Individual respondents may request confidentiality. If you wish to withhold your name or street address from public review or from disclosure under the Freedom of Information Act, you must state this prominently at the beginning of your comments. Such requests will be honored to the extent allowed by law. All submissions from organizations or businesses, and from individuals identifying themselves as representatives or officials of organizations or businesses, will be made available for public inspection in their entirety.

FOR FURTHER INFORMATION CONTACT: Diana Hawks, Bureau of Land Management, 345 East Riverside Drive, St. George, Utah 84790, telephone (435) 688-3266; or Darla Sidles, National Park Service, Grand Canyon-Parashant National Monument, 345 East Riverside Drive, St. George, Utah 84790, telephone (435) 688-3226.

SUPPLEMENTARY INFORMATION: The Grand Canyon-Parashant National Monument (Parashant) was established by Presidential Proclamation on January 11, 2000. The Parashant is cooperatively managed by the Arizona Strip District Office of the BLM and the Lake Mead National Recreation Area of the NPS. It includes 1,048,293 acres in Mohave County, Arizona, of which 808,724 is administered by the BLM and 208,444 is administered by the NPS. The Vermilion Cliffs National Monument (Vermilion) was established by Presidential Proclamation on November 9, 2000. The Vermilion covers 293,679 acres in Coconino County, Arizona, and is administered solely by the BLM. The remainder of the BLM-administered lands on the Arizona Strip encompasses approximately 1,981,000 acres located in Mohave and Coconino counties, Arizona, north of the Grand Canyon and is almost entirely between the two national monuments listed above. The Draft Plan/DEIS was developed with broad public participation through a four-year collaborative planning process. Issues identified during public scoping addressed in the Draft Plan/DEIS include: (1) Access and Transportation: How will transportation and access be managed? (2) Wilderness: How will wilderness characteristics be protected? (3) Protection of Resources: How will national monument objects, cultural and natural resources be protected? (4) Livestock Grazing: How will livestock grazing be addressed, particularly on the national monuments? (5) Recreation: How will people's recreational activities be managed?

The preferred alternative, for BLM-administered lands only, identifies 14 potential Areas of Critical Environmental Concern (ACEC) covering 158,398 acres: Beaver Dam Slope ACEC (51,984 acres); Black Knolls ACEC (80 acres); Coyote Valley ACEC (776 acres); Fort Pearce ACEC (5,498 acres); Johnson Spring ACEC (2,058 acres); Kanab Creek ACEC (13,146 acres); Little Black Mountain ACEC (241 acres); Lone Butte ACEC (1,900 acres); Lost Spring Mountain ACEC (17,744 acres); Marble Canyon ACEC (9,852 acres); Moonshine Ridge ACEC (9,231 acres); Shinarump ACEC (3,619 acres); Virgin River Corridor ACEC (2,063 acres); and Virgin Slope ACEC (40,206 acres). Nine of these ACECs (127,193 acres) are carried forward from the Arizona Strip RMP (1992), five are new ACECs. There are up to six additional potential ACECs in one or more of the other alternatives: Buckskin ACEC (160 acres); Clayhole ACEC (7,362 acres); Gray Points ACEC (12,881 acres); Hurricane Cliffs ACEC (23,464 acres); Lime Kiln/Hatchett Canyon ACEC (11,731 acres); and, Twist Hills ACEC (1,255 acres). The following types of resource use limitations would generally apply to these ACECs: (1) Motorized travel would be permitted only on existing (temporary) or designated open routes; (2) closed to vegetative product sales in all ACECs and collection of vegetative materials in ACECs designated for the protection of special status plants; (3) seasonal limitations on livestock grazing in ACECs designated for protection of special status animals; and (4) new mineral material disposal sites would not be authorized. For detailed information, see the Special Area Designations sections of Chapter 2.

Three Records of Decision (ROD) will be prepared by the BLM for the Arizona Strip: one for the Vermilion Cliffs National Monument Resource Management Plan (RMP), one for the Arizona Strip Field Office RMP, and one for the BLM portion of the Grand Canyon-Parashant National Monument. Another ROD will be prepared by the NPS for the Grand Canyon-Parashant National Monument General Management Plan for the NPS portion of the monument.

Dated: December 16, 2005.
Elaine Y. Zielinski,
Arizona State Director, Bureau of Land Management.
Patricia L. Neubacher,
Acting Regional Director, Pacific West Region, National Park Service.

[FR Doc. 05-24486 Filed 12-23-05; 8:45 am]

BILLING CODE 4310-32-P